NATIONAL AERONAUTICS AND SPACE ADMINISTRATION

[NOTICE: 08-026]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Sharon Mar, Office of Information and Regulatory Affairs; Room 10236; New Executive Office Building; Washington, DC 20503.

FOR FURTHER INFORMATION CONTACT: Requests for additional information or copies of the information collection instrument(s) and instructions should be directed to Dr. Walter Kit, NASA PRA Officer, NASA Headquarters, 300 E Street SW., JE0000, Washington, DC 20546, (202) 358-1350, Walter.Kit-1@nasa.gov.

SUPPLEMENTARY INFORMATION:

I. Abstract

The need for educational survey(s) is to inform NASA and specific projects about education and programmatic issues and topics leading to improved customer service for stakeholders. The NASA-funded education programs served are primarily from the Earth Science education initiatives.

II. Method of Collection

NASA will utilize a Web-based education survey to inform NASA and specific projects about education and programmatic issues and topics leading to improved customer service for its stakeholders. The NASA education programs served, including those from REASON (Research, Education and Applications Solutions Network) program are primarily from Earth Science initiatives.

III. Data

Title: NASA Education Customer Survey.

OMB Number: 2700-XXXX.

Type of Review: New Collection.

Affected Public: Individuals or households, business and other for-profit, and Federal Government.

Estimated Number of Respondents: 5000.

Estimated Time Per Response: 0.25 hours.

Estimated Total Annual Burden Hours: 1250.

Estimated Total Annual Cost: $31,500.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Associate Chief Information Officer (Acting).

[FR Doc. E8-7392 Filed 4-8-08; 8:45 am]

BILLING CODE 7510-13-P